ENVIRONMENTAL PROTECTION AGENCY

[OPP-34143C; FRL-6817-5]

Dimethoate; Receipt of Requests for Amendments and Cancellations

AGENCY: Environmental Protection Agency (EPA).

ACTION: Notice.

SUMMARY: The companies that distribute technical dimethoate, O,O- dimethyl S-(N-methylcarbamoylmethyl) phosphorodithioate for formulation of pesticide products containing dimethoate have asked EPA to amend their manufacturing-use product registrations. In addition, the companies holding end-use registrations have asked EPA to cancel or amend their registrations for end-use products containing dimethoate to delete all uses with possible residential exposures. Pursuant to section 6(f)(1) of the Federal Insecticide, Fungicide, and Rodenticide Act (FIFRA), EPA is announcing the Agency's receipt of these requests. These requests for voluntary cancellation were submitted to EPA in April to December 2001. EPA intends to grant the requested cancellations and amendments to delete uses. EPA also plans to issue a cancellation order for the deleted uses and the canceled registrations at the close of the comment period for this announcement. Upon the issuance of the cancellation order, any distribution, sale, or use of dimethoate products listed in this Notice will only be permitted if such distribution, sale, or use is consistent with the terms of that order.

DATES: Comments on the requested amendments to delete uses and the requested registration cancellations must be submitted to the address provided below and identified by docket control number OPP-34143C. Comments must be received on or before February 11, 2002.

ADDRESSES: Comments may be submitted by mail, electronically, or in person. Please follow the detailed instructions for each method as provided in Unit I. of the SUPPLEMENTARY INFORMATION. To ensure proper receipt by EPA, it is imperative that you identify docket control number OPP-34143C in the subject line on the first page of your response.

FOR FURTHER INFORMATION CONTACT: Patrick Dobak, Special Review and Reregistration Division (7508C), Office of Pesticide Programs, Environmental Protection Agency, 1200 Pennsylvania Ave., NW., Washington, DC 20460; telephone number: (703) 308-8180; fax number: (703) 308-7042; e-mail address: dobak.pat@epa.gov.

SUPPLEMENTARY INFORMATION: This announcement consists of three parts. The first part contains general information. The second part addresses the registrants' requests for registration cancellations and amendments to delete uses. The third part proposes existing stocks provisions that will be set forth in the cancellation order that the Agency intends to issue at the close of the comment period for this announcement.

I. General Information

A. Does this Action Apply to Me?

This action is directed to the public in general. You may be potentially affected by this action if you manufacture, sell, distribute, or use dimethoate products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/. To access information about the risk assessment for dimethoate, go to the Home Page for the Office of Pesticide Programs or go directly http://www.epa.gov/pesticides/op/dimethoate.htm.

2. In person. The Agency has established an official record for this action under docket control number OPP-34143C. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34143C in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-34143C. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Receipt of Requests to Cancel and Amend Registrations to Delete Uses.

A. Background

In a letter dated August 3, 2001, Cheminova Agro F/S, the manufacturer of technical dimethoate, requested cancellation of all residential and certain agricultural uses from their dimethoate products. In addition, the other registrants holding pesticide registrations for manufacturing-use products containing dimethoate also requested label amendments in order to exclude these uses. The registrants holding pesticide registrations for end-use products containing dimethoate requested label amendments removing these uses from their products. Since several of these products were marketed solely for retail (residential) uses, several registrants requested that EPA cancel these registrations. EPA intends to grant the requested cancellations at the close of the comment period for this announcement. Pursuant to section 6(f)(1) of the FIFRA, EPA is announcing the Agency's receipt of these requests and EPA's intention to amend dimethoate registrations to delete all residential and certain agricultural uses which are identified in the following Table 1.

Table 1.—Dimethoate Uses That are Voluntarily Cancelled or Deleted by the Registrants
Residential and Public Area Uses | Agricultural Uses
Any use in or around a structure used as a residence or domestic dwelling, or on any articles or areas associated with such structures (including household contents, home gardens, and home greenhouses). | Housefly treatments on farm buildings and structures, farm animal quarters, and manure piles.
Any use in public or private building or structure (including recreational facilities, theaters, hotels, resorts, or other buildings used for public accommodation, or in any other commercial, industrial, or institutional building), or on any articles or areas associated with such structures, including refuse areas, building contents, and landscaping and playgrounds.

The Agency recognizes that dimethoate use on outdoor commercial ornamental tree, shrub and annual plant production areas is being supported by the technical registrants. While use on ornamentals in other settings is no longer being supported, outdoor commercial ornamental production areas may remain on dimethoate labels.

B. Requests for Voluntary Cancellation of Manufacturing-Use Products

Pursuant to section 6(f)(1)(A) of FIFRA, the following companies have submitted a request to amend the registrations of their pesticide end-use products containing diazinon to delete certain uses from certain products. The following Table 2 identifies the registrants and the product registrations that they wish to amend to remove the uses listed in Table 1.

Table 2.—Manufacturing-Use Product Registration Amendment Requests
Company | Registration No. | Product
Cheminova Agro F/S | 4787-7 | Chemathoate Technical
BASF Corporation | 7969-32 | Perfekthion Manufactures' Technical
Gowan Company | 10163-211 | Gowan Dimethoate Technical
Drexel Chemical Company | 19713-209 | Drexel Dimethoate Technical
Platte Chemical Company Inc. | 34704-788 | Dimethoate Technical
Micro-Flo Company LLC | 51036-279 | Dimethoate Technical

Under section 6(f)(1)(A) of FIFRA, registrants may request, at any time, that their pesticide registrations be amended to delete one or more pesticide uses. The aforementioned companies have requested to amend their registrations and have requested that EPA waive the 180-day comment period. In light of this request, EPA is granting the request to waive the 180-day comment period and is providing a 30-day public comment period before taking action on the requested amendments to delete uses. EPA expects to grant the requested cancellations at the close of the comment period for this announcement.

C. Requests for Voluntary Cancellation of End-Use Products

In addition to requesting voluntary cancellation of manufacturing-use products, registrants holding registrations for dimethoate end-use products have requested voluntary cancellation of the following end-use product registrations containing dimethoate. The end-use products for which cancellation was requested are identified in Table 3.

Table 3.—End-Use Product Registration Cancellation Requests
Company | Registration No. | Product
Bonide Products, Inc. | 4-256 | Bonide Systemic Insecticide
Value Garden Supply, LLC | 70-113 | Kill-Ko Cygon 2-E Systemic Insecticide
| 192-134 | Drexol Cygon Systemic Insecticide
| 5887-128 | Black Leaf Cygon 2-E
Rockland Corporation | 572-224 | Rockland Residual Fly Spray
Universal Cooperatives Inc. | 1386-449 | Cygon 2E Systemic Insecticide
AMVAC Chemical Corporation | 5481-54 | ALCO Cygon 2 E
Celaflor GMBH | 69129-3 | Celaflor Rose Patch

Under section 6(f)(1)(A) of FIFRA, registrants may request, at any time, that EPA cancel any of their pesticide registrations. Section 6(f)(1)(B) of FIFRA requires that EPA provide a 30-day period in which the public may comment before the Agency may act on the request for voluntary cancellation. In addition, section 6(f)(1)(C) of FIFRA requires that EPA provide a 180-day comment period on a request for voluntary termination of any minor agricultural use before granting the request, unless (1) the registrants request a waiver of the comment period, or (2) the Administrator determines that continued use of the pesticide would pose an unreasonable adverse effect on the environment. In this case, all of the registrants have requested that EPA waive the 180-day comment period. In light of this request, EPA is granting the request to waive the 180-day comment period and is providing a 30-day public comment period before taking action on the requested cancellations. EPA expects to grant the requested cancellations at the close of the comment period for this announcement.

D. Requests for Voluntary Amendments to Delete Uses From the Registrations of End-Use Products

Pursuant to section 6(f)(1)(A) of FIFRA, Dragon Chemical Corporation, Value Gardens Supply, LLC, Uniroyal Chemical Company Inc., Southern Agricultural Insecticides Inc., Universal Cooperatives Inc., Helena Chemical Company, Voluntary Purchasing Group Inc., BASF Corporation, Agriliance, LLC, Platte Chemical Company, Inc., Haco, Inc., Micro-Flo Company LLC, and Cheminova Agro F/S have also submitted a request to amend their other end-use registrations of pesticide products containing dimethoate to delete the uses described in Table 1 from any product bearing registered for such use. The registrations for which amendments to delete uses were requested are identified in the following Table 4.

Table 4.—End-Use Product Registration Amendment Requests
Company | Registration No. | Product
Dragon Chemical Corporation | 16-160 | Dragon Cygon 2-E Systemic Insecticide
Value Gardens Supply, LLC | 769-948 | Pratt Cygon 2-E Systemic Insecticide
Uniroyal Chemical Company Inc. | 400-278 | De-Fend E267 Dimethoate Systemic Insecticide
Southern Agricultural Insecticides, Inc. | 829-251 | SA-50 Brand Cygon 2-E Dimethoate Systemic Insecticide
Universal Cooperatives Inc. | 1386-618 | Cygon 2-E Systemic Insecticide
| 1386-625 | Dimethoate 267 EC Systemic Insecticide
Drexel Chemical Company | 19717-232 | Drexel Dimethoate 2.67
Helena Chemical Company | 5905-493 | Dimethoate 4EC
| 5905-497 | 5 lb. Dimethoate Systemic Insecticide
Voluntary Purchasing Group Inc. | 7401-338 | Hi-Yield Cygon
BASF Corporation | 7969-38 | Rebelate 2E Insecticide
Agriliance, LLC | 9779-273 | Dimate 4E
Platte Chemical Company, Inc. | 34704-207 | Clean Crop Dimethoate 400
| 34704-489 | Dimethoate 2.67 EC
| 34704-762 | Flygon 2-E
| 34704-762 | Flygon 2-E
Haco, Inc. | 2393-377 | Cygon 2-E Systemic Insecticide
Micro-Flo Company LLC | 51036-110 | Dimethoate 4E
| 51036-198 | Cymate 267
Cheminova Agro F/S | 67760-36 | Chemathoate 267 E.C. Systemic Insecticide
| 67760-44 | Dimethoate 4W

Under section 6(f)(1)(A) of FIFRA, registrants may request, at any time, that their pesticide registrations be amended to delete one or more pesticide uses. These companies have requested that EPA waive the 180-day comment period. In light of this request, EPA is granting the request to waive the 180-day comment period and is providing a 30-day public comment period before taking action on the requested amendments to delete uses. EPA expects to grant the requested amendments to delete the uses described in Table 1 at the close of the comment period for this announcement.

III. Existing Stocks

The registrants have requested voluntary cancellation of the dimethoate registrations identified in Tables 2 and 3, and submitted amendments to amend registrations identified in Table 4 to delete uses of dimethoate identified in Table 1. Pursuant to section 6(f) of FIFRA, EPA expects to grant these requests for voluntary cancellation and amendment upon the close of the comment period. EPA anticipates that the cancellation order would allow for 1-year use of existing stocks, defined in EPA's existing stocks policy (56 FR 29362, June 26, 1991) as those stocks of a registered pesticide product which are currently in the United States and which have been packaged, labeled, and/or released for shipment prior to the effective date of the cancellation or amendment. Any distribution, sale, or use of existing stocks 1-year after the effective date of the amendment or cancellation order that the Agency intends to issue that is not consistent with the terms of that order will be considered a violation of section 12(a)(2)(K) and/or 12(a)(1)(A) of FIFRA.

List of Subjects

Environmental protection, Pesticides and pests.

Dated:January 2, 2002.
Lois A. Rossi,
Director, Special Review and Reregistration Division, Office of Pesticide Programs.

[FR Doc. 02-631 Filed 1-9-02; 8:45 am]

BILLING CODE 6560-50-S